DEPARTMENT OF TRANSPORTATION

Federal Aviation Administration

14 CFR Part 71

[Docket No. FAA-2023-1329; Airspace Docket No. 23-AEA-2]

RIN 2120-AA66

Establishment of United States Area Navigation (RNAV) Routes T-440, T-455, T-457, T-459, and T-476, and Amendment of RNAV Routes T-358, T-416, and T-445; Eastern United States

AGENCY: Federal Aviation Administration (FAA), DOT.

ACTION: Final rule; correction.

SUMMARY: This action corrects a final rule published by the FAA in the Federal Register on November 24, 2023, that establishes United States Area Navigation (RNAV) routes T-440, T-455, T-457, T-459, and T-476, and amends RNAV routes T-358, T-416, and T-445 in support of the FAA's Very High Frequency Omnidirectional Range (VOR) Minimum Operational Network (MON) Program.

DATES: Effective date 0901 UTC, January 25, 2024. The Director of the Federal Register approves this incorporation by reference action under 1 CFR part 51, subject to the annual revision of FAA Order 7400.11 and publication of conforming amendments.

ADDRESSES: A copy of this final rule, and all background material may be viewed online at www.regulations.gov using the FAA Docket number. Electronic retrieval help and guidelines are available on the website. It is available 24 hours each day, 365 days each year.

FOR FURTHER INFORMATION CONTACT: Brian Vidis, Rules and Regulations Group, Office of Policy, Federal Aviation Administration, 800 Independence Avenue SW, Washington, DC 20591; telephone: (202) 267-8783.

SUPPLEMENTARY INFORMATION:

History

The FAA published a final rule in the Federal Register (88 FR 82252; November 24, 2023), amending and establishing multiple RNAV T-routes in support of the FAA's VOR MON Program. Subsequent to publication, the FAA determined that for RNAV route T-358, the SWANN, MD; AVALO, NJ; MANTA, NJ; BURDY, MA; LBSTA, MA; and MESHL, ME, route points were inadvertently identified as WPs, in error. This rule corrects those errors by changing all references to these six points as Fixes. These are editorial changes only to match the FAA's aeronautical database information.

Additionally, the FAA determined that it inadvertently omitted the BEADS, NY, Fix, and the JORDN, NY, Fix, from the part 71 description of RNAV route T-358. The BEADS Fix and the JORDN Fix were part of RNAV route T-358 but were incorrectly calculated to be a turn of less than one degree so they were not originally included in the part 71 description. Subsequent to publication, the FAA determined that the route segment between the MANTA, NJ, Fix and the BEADS Fix was a turn of two degrees; and the route segment between the ORCHA, NY, WP and the JORDN Fix was a turn of one degree, which require that the BEADS and the JORDN Fixes be added to the part 71 description. Adding the BEADS Fix and the JORDN Fix to RNAV route T-358 does not substantially alter the route.

In describing the changes to RNAV route T-445, the location of the Westminster, VORTAC was identified in error as “ME” and is corrected from “Westminster, ME (EMI), VORTAC” to “Westminster, MD, (EMI), VORTAC”.

Correction to Final Rule

Accordingly, pursuant to the authority delegated to me, in Docket No. FAA-2023-1329. As published in the Federal Register of November 24, 2023 (88 FR 82252), FR Doc. 2023-25852, is corrected as follows:

1. On page 82253, in the first column, under the heading “The Rule” in the paragraph starting with “T-358”, correct “AVALO, NJ, WP” to read “AVALO, NJ, Fix”.

2. On page 82253, in the first column, under the heading “The Rule” in the paragraph starting with “T-358”, correct “AVALO WP and the BURDY, MA, WP; and between the LBSTA, MA, WP” to read “AVALO Fix and the BURDY, MA, Fix; and between the LBSTA, MA, Fix”.

3. On page 82253, in the first column, under the heading “The Rule” in the paragraph starting with “T-445,” correct “Westminster, ME (EMI), VORTAC” to read “Westminster, MD (EMI), VORTAC”.

4. On page 82253 correct the table “T-358 Martinsburg, WV (MRB) to Augusta, ME (AUG) [Amended]” to read:

T-358 Martinsburg, WV (MRB) to Augusta, ME (AUG) [Amended]
Martinsburg, WV (MRB) | VORTAC | (Lat. 39°23′08.06″ N, long. 077°50′54.08″ W)
CPTAL, MD | WP | (Lat. 39°32′16.02″ N, long. 077°41′55.65″ W)
TWIRK, MD | WP | (Lat. 39°34′36.70″ N, long. 077°12′44.75″ W)
HAMRR, MD | WP | (Lat. 39°30′03.42″ N, long. 076°56′10.84″ W)
DANII, MD | WP | (Lat. 39°17′46.42″ N, long. 076°42′19.36″ W)
OBWON, MD | WP | (Lat. 39°11′54.69″ N, long. 076°32′04.84″ W)
SWANN, MD | FIX | (Lat. 39°09′05.28″ N, long. 076°13′43.94″ W)
Smyrna, DE (ENO) | VORTAC | (Lat. 39°13′53.93″ N, long. 075°30′57.49″ W)
AVALO, NJ | FIX | (Lat. 39°16′54.52″ N, long. 074°30′50.75″ W)
MANTA, NJ | FIX | (Lat. 39°54′07.01″ N, long. 073°32′31.63″ W)
BEADS, NY | FIX | (Lat. 40°44′04.51″ N, long. 072°32′34.21″ W)
ORCHA, NY | WP | (Lat. 40°54′55.46″ N, long. 072°18′43.64″ W)
JORDN, NY | FIX | (Lat. 41°03′16.92″ N, long. 071°54′52.66″ W)
Sandy Point, RI (SEY) | VOR/DME | (Lat. 41°10′02.77″ N, long. 071°34′33.91″ W)
BURDY, MA | FIX | (Lat. 41°57′19.14″ N, long. 070°57′07.45″ W)
HAVNS, OA | WP | (Lat. 42°17′55.00″ N, long. 070°27′42.00″ W)
GRGIO, MA | WP | (Lat. 42°35′09.36″ N, long. 070°33′54.40″ W)
LBSTA, MA | FIX | (Lat. 42°48′00.00″ N, long. 070°36′48.70″ W)
MESHL, ME | FIX | (Lat. 43°19′12.07″ N, long. 070°09′48.03″ W)
Augusta, ME (AUG) | VOR/DME | (Lat. 44°19′12.07″ N, long. 069°47′47.63″ W)

Issued in Washington, DC, on December 12, 2023.
Frank Lias,
Manager, Rules and Regulations Group.

[FR Doc. 2023-27606 Filed 12-15-23; 8:45 am]

BILLING CODE 4910-13-P